DEPARTMENT OF COMMERCE

National Oceanic and Atmospheric Administration

Agency Information Collection Activities; Submission to the Office of Management and Budget (OMB) for Review and Approval; Comment Request; Evaluations of Coastal Zone Management Act Programs: State Coastal Management Programs and National Estuarine Research Reserves

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 12, 2023 (88 FR 2071), during a 60-day comment period. This notice allows for an additional 30 days for public comments.

Agency: National Oceanic and Atmospheric Administration, Commerce Department.

Title: Evaluations of Coastal Zone Management Act (CZMA) Programs: State Coastal Management Programs and National Estuarine Research Reserves.

OMB Control Number: 0648-0661.

Form Number(s): None.

Type of Request: Regular submission (revision and extension of a current information collection).

Number of Respondents: 288.

Average Hours per Response: 72 hours per CZMA program manager's evaluation; 15 minutes per partner/stakeholder response.

Total Annual Burden Hours: 933.

Needs and Uses: This request is for revision and extension of a currently approved information collection. A few questions will be rewritten to improve the usefulness of information collected. A new question is proposed for inclusion that will collect information from Coastal Zone Management Act programs about efforts in racial equity and engagement with underserved communities.

The Coastal Zone Management Act of 1972, as amended (16 U.S.C. 1451 et seq.) requires that state coastal management programs and national estuarine research reserves developed in accordance with the CZMA and approved by the Secretary of Commerce be evaluated periodically. This request is to collect information to accomplish those evaluations. NOAA's Office for Coastal Management conducts periodic evaluations of the 34 coastal management programs and 30 research reserves and produces written findings for each evaluation. The Office for Coastal Management has access to documents submitted in cooperative agreement applications, performance reports, and certain documentation required by the CZMA and implementing regulations. However, additional information from each coastal management program and research reserve, as well as information from the program and reserve partners and stakeholders with whom each works, is necessary to evaluate against statutory and regulatory requirements. Different information collection subsets are necessary for (1) coastal management programs, (2) their partners and stakeholders, (3) research reserves, and (4) their partners and stakeholders.

As part of this submission, a few questions will be modified to clarify the information that should be provided as part of the information requests and questionnaires sent to the coastal program and reserve managers. One new question about efforts in diversity, inclusion, equity, and accessibility will be included for coastal program and reserve managers. A few questions will be revised to clarify and improve the usefulness of responses for the partners and stakeholders' survey.

Given the addition of a designated research reserve since the last renewal of this information collection and the anticipated designation of additional reserves in the coming years, and an increase in Office for Coastal Management staff capacity to conduct evaluations, the number of CZMA programs to be evaluated, on average, in the next three years will increase from 11 to 12 programs per year. This increase in the number of programs to be evaluated will also increase the number of partner and stakeholder respondents to this information collection.

Affected Public: Business or other for-profit organizations; not-for-profit institutions; state, local, or tribal government; Federal government.

Frequency: CZMA programs will complete once every five to six years. Program partners and stakeholders are invited to complete one survey for program(s) that they work with on the same schedule as that program(s) (once every five to six years).

Respondent's Obligation: Mandatory for CZMA programs; voluntary for program partners and stakeholders.

Legal Authority: Section 312 of the Coastal Zone Management Act, as amended (16 U.S.C. 1458).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0661.

Sheleen Dumas,
Department PRA Clearance Officer, Office of the Under Secretary for Economic Affairs, Commerce Department.

[FR Doc. 2023-06709 Filed 3-30-23; 8:45 am]

BILLING CODE 3510-JE-P